DEPARTMENT OF LABOR

Employment and Training Administration

[TA-W-83,024]

Blount International, Inc., Including On-Site Leased Workers From Express Employment Professionals, Portland, Oregon

[TA-W-83,024A]

Blount International, Inc., Carlton, Blount Including On-Site Leased Workers From Express Employment Professionals Milwaukie, Oregon; Amended Certification Regarding Eligibility To Apply for Worker Adjustment Assistance

In accordance with Section 223 of the Trade Act of 1974, as amended (“Act”), 19 U.S.C. 2273, the Department of Labor issued a Certification of Eligibility to Apply for Worker Adjustment Assistance on September 19, 2013, applicable to workers of Blount International, Inc., including on-site leased workers from Express Employment Professionals Portland, Oregon. The workers are engaged in activities related to the production of replacement parts and equipment including saw chain bars, rims and saw chains. The notice will be published soon in the Federal Register.

At the request of a company official, the Department reviewed the certification for workers of the subject firm. Additional information shows that worker separations at the Milwaukie, Oregon facility are attributable to the same shift in production that was the basis for certifying workers at the Portland, Oregon facility.

Accordingly, the Department is amending the certification to include workers of the Milwaukie, Oregon location of Blount International, Carlton, Blount, Inc.

The amended notice applicable to TA-W-83,024 and TA-W-83,024A are hereby issued as follows:

All workers of Blount International, Inc., including on-site leased workers from Express Employment Professionals, Portland, Oregon (TA-W-83,024) and Blount International, Carlton, Blount, Inc., including on-site leased workers from Express Employment Professionals, Milwaukie, Oregon (TA-W-83,024A), who became totally or partially separated from employment on or after August 23, 2012, through September 19, 2015, and all workers in the group threatened with total or partial separation from employment on the date of certification through two years from the date of certification, are eligible to apply for adjustment assistance under Chapter 2 of Title II of the Trade Act of 1974, as amended.

Signed in Washington, DC, this 17th day of October 2013.
Michael W. Jaffe,
Certifying Officer, Office of Trade Adjustment Assistance.

[FR Doc. 2013-26501 Filed 11-5-13; 8:45 am]

BILLING CODE 4510-FN-P